DEPARTMENT OF DEFENSE

48 CFR Part 204 and Appendix G to Chapter 2

[DFARS Case 2003-D005]

Defense Federal Acquisition Regulation Supplement; DoD Activity Address Codes in Contract Numbers

AGENCY: Department of Defense (DoD).

ACTION: Final rule.

SUMMARY: DoD has issued a final rule amending the Defense Federal Acquisition Regulation Supplement (DFARS) to prescribe the use of DoD activity address codes in the first six positions of solicitation and contract numbers. This change provides consistency in the method of identifying DoD activities and eliminates the need for maintenance of the list of DoD activity address numbers in DFARS appendix G.

EFFECTIVE DATE: November 14, 2003.

FOR FURTHER INFORMATION CONTACT: Mr. Euclides Barrera, (703) 602-0296.

SUPPLEMENTARY INFORMATION:

A. Background

This rule amends DFARS subpart 204.70 to prescribe the use of a contracting office's DoD activity address code in the first six positions of a solicitation or contract number, instead of the DoD activity address number found in DFARS appendix G. DoD activity address codes are maintained by the Defense Logistics Agency and are available at http://www.daas.dla.mil/daashome/.

This rule removes appendix G from the DFARS, as there is no longer a need for maintenance of DoD activity address numbers. The two-position codes in appendix G, that contracting offices use when placing an order against another activity's contract or agreement, are now available at a separate location on the Defense Acquisition Regulations Web page (http://www.acq.osd.mil/dp/dars/dfars.html). For reference purposes, archived versions of appendix G are available in the HTML version of the DFARS on the Defense Acquisition Regulations Web page, by using the “Prior Version” option shown at the beginning of each appendix G part.

DoD published a proposed rule at 68 FR 34879 on June 11, 2003. Four sources submitted comments on the proposed rule. A discussion of the comments is provided below. Differences between the proposed and final rules are addressed in the DoD Response to Comments 1 and 5 below. In addition, DoD has made editorial changes at 204.7005 to update address information.

1. Comment: The text at 204.7000(b) should be revised to clarify that the numbering requirements of DFARS subpart 204.70 do not apply to solicitations and orders that precede issuance of communication service authorizations.

DoD Response: Concur. The text at 204.7000(b) has been revised to incorporate this clarification.

2. Comment: Some of the DoDAACs are not six characters. Will the remaining characters be filled in with zeros? Will this result in duplicate DoDAACs for two different locations?

DoD Response: DFARS subpart 204.70 prescribes use of only those DoDAACs assigned to contracting activities, which are all six characters in length.

3. Comment: The rule should retain the existing language at 204.7000(b) that allows for optional procedures when assigning numbers to solicitations, contracts, and related instruments that will be completely administered by the purchasing office or the consignee.

DoD Response: Optional procedures are no longer permitted, as a result of the interim FAR rule published at 68 FR 56679 on October 1, 2003 (FAC 2001-16, Item III), which requires agencies to assign a unique identifier to every procurement instrument.

4. Comment: DFARS 204.7001(b) requires that the basic procurement instrument identification number be unchanged for the life of the instrument. To prevent duplication of call and/or order numbers, this policy should be changed to allow contracting officers to re-issue contracts with new identification numbers for administrative purposes.

DoD Response: The comment is outside the scope of this case. However, DoD is considering this concept under a separate case (DFARS Case 2003-D052).

5. Comment: DFARS 204.7002(c) requires that the major elements of a contract number be separated by dashes. This policy is reflective of a paper-based environment and should provide an exception for instances where the contract number is transmitted electronically.

DoD Response: Concur. The final rule amends 204.7002(c) to clarify that use of dashes is unnecessary in electronic transmission of contract numbers.

6. Comment: Does DoD plan to change the numbers of any existing contracts? We presume modifications to long-term contracts would be required to continue to carry the basic contract number. If contract numbers are not changed, the maintenance of DFARS appendix G could not be eliminated.

DoD Response: The rule does not require change to the numbers of existing contracts. This final rule removes appendix G from the DFARS. However, an archived version of appendix G is available through the Defense Acquisition Regulations web page for reference purposes.

7. Comment: Some military bases have multiple DoDAACs. We assume DoD will publish a list of the ones that will be used to identify contracts.

DoD Response: Each DoD component listed in DFARS 204.7005(c) will maintain a list of the DoDAACs it uses for contracts and will provide this information upon request.

8. Comment: DoDAACs should be maintained with the same rigor as the DoDAANs to ensure that shipments and payments are not delayed.

DoD Response: The DoD Activity Address File, which contains all DoDAACs, is updated on a daily basis.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because assignment of solicitation and contract numbers is an administrative function performed by the Government. The rule makes no change to the number of characters in a solicitation or contract number and, therefore, will not have a significant effect on the operation of automated systems.

C. Paperwork Reduction Act

The Paperwork Reduction Act does not apply because the rule does not impose any information collection requirements that require the approval of the Office of Management and Budget under 44 U.S.C. 3501, et seq.

List of Subjects in 48 CFR Part 204

Government procurement.

Michele P. Peterson,
Executive Editor, Defense Acquisition Regulations Council.

Therefore, 48 CFR part 204 and appendix G to chapter 2 are amended as follows:

1. The authority citation for 48 CFR part 204 and appendix G to subchapter I continues to read as follows:

Authority: 41 U.S.C. 421 and 48 CFR chapter 1.

PART 204—ADMINISTRATIVE MATTERS

2. Section 204.7000 is revised to read as follows:

204.7000 Scope.

This subpart—

(a) Prescribes policies and procedures for assigning numbers to all solicitations, contracts, and related instruments; and

(b) Does not apply to solicitations or orders for communication service authorizations issued by the Defense Information Technology Contracting Organization of the Defense Information Systems Agency in accordance with 239.7407-2.

204.7002 [Amended]

3. Section 204.7002 is amended in paragraph (c) in the second sentence by adding, before the final period, the parenthetical “(not necessary in electronic transmission)”.

4. Section 204.7003 is amended by revising paragraph (a)(1) to read as follows:

204.7003 Basic PII number.

(a) * * *

(1) Positions 1 through 6. The first six positions identify the department/agency and office issuing the instrument. Use the DoD Activity Address Code (DoDAAC) assigned to the issuing office. DoDAACs can be found at https://www.daas.dla.mil/daashome/.

* * * * *

5. Section 204.7004 is amended in paragraph (d)(2)(i) by revising the second sentence to read as follows:

204.7004 Supplementary PII numbers.

* * * * *

(d) * * *

(2) * * *

(i) * * * The first and second positions contain the call/order code assigned to the ordering office in accordance with 204.7005. * * *

* * * * *

6. Section 204.7005 is added to read as follows:

204.7005 Assignment of order codes.

(a) The Defense Logistics Agency, Acquisition Policy Branch (J-3311), Fort Belvoir, VA 22060-6221, is the executive agent for maintenance of code assignments for use in the first two positions of an order number when an activity places an order against another activity's contract or agreement (see 204.7004(d)(2)). The executive agent distributes blocks of two-character order codes to department/agency monitors for further assignment.

(b) Contracting activities submit requests for assignment of or changes in two-character order codes to their respective monitors in accordance with department/agency procedures. Order code monitors—

(1) Approve requests for additions, deletions, or changes; and

(2) Provide notification of additions, deletions, or changes to—

(i) The executive agent; and

(ii) The executive editor, Defense Acquisition Regulations, OUSD(AT&L)DPAP(DAR), 3062 Defense Pentagon, Washington, DC 20301-3062.

(c) Order code monitors are—

Army: Army Contracting Agency, Attn: SFCA-IT, 5109 Leesburg Pike, Suite 302, Falls Church, VA 22041-3201

Navy and Marine Corps: Office of the Assistant Secretary of the Navy (RD&A), 1000 Navy Pentagon, Room BF992, Washington, DC 20350-1000

Air Force: SAF/AQCX, 1060 Air Force Pentagon, Washington, DC 20330-1060

Defense Logistics Agency: Defense Logistics Agency, Acquisition Policy Branch (J-3311), John J. Kingman Road, Fort Belvoir, VA 22060-6221

Other Defense Agencies: Army Contracting Agency, Attn: SFCA-IT 5109 Leesburg Pike, Suite 302, Falls Church, VA 22041-3201

(d) Order code assignments can be found at http://www.acq.osd.mil/dp/dars/dfars.html.

Appendix G to Chapter 2 [Removed and Reserved]

7. Appendix G to chapter 2 is removed and reserved.

[FR Doc. 03-28439 Filed 11-13-03; 8:45 am]

BILLING CODE 5001-08-P